DEPARTMENT OF AGRICULTURE

Grain Inspection, Packers and Stockyards Administration

[04-TX-A]

Opportunity for Designation in South Texas

AGENCY: Grain Inspection, Packers and Stockyards Administration, USDA.

ACTION: Notice.

SUMMARY: Grain Inspection, Packers and Stockyards Administration (GIPSA) has received inquiries, and several letters from the grain industry in Texas indicating a need for designating an organization to provide official services in South Texas. GIPSA is asking persons interested in providing official services in unassigned areas of South Texas to submit an application for designation.

DATES: Applications and comments must be postmarked or electronically dated on or before January 7, 2005.

ADDRESSES: We invite you to submit applications and comments on this notice. You may submit applications and comments by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Janet M. Hart at 202-720-8525, e-mail Janet.M.Hart@usda.gov.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

GIPSA is asking for applicants to provide official services in South Texas. The South Texas area being considered for assignment to the applicant or applicants selected for designation, pursuant to Section (7)(2) of the Act, is as follows:

Bounded on the north by the northern Jack, Wise, Denton, Collin, Hunt, Delta, Franklin, Titus, Morris, and Marion County line east to the Texas State line;

Bounded on the east by the eastern Texas State line south to the southern Texas State line;

Bounded on the south by the southern Texas State line west to the western Val Verde County line;

Bounded on the west by the western Val Verde, Edwards, Kimble, Mason, San Saba, Mills, Comanche, Erath, Palo Pinto, and Jack County lines north to the northern Jack County line, excluding those export port locations served by GIPSA.

Opportunity for designation. Interested persons are hereby given the opportunity to apply for designation to provide official services in the geographic areas specified above under the provisions of Section 7(f) of the Act and section 800.196(d) of the regulations issued thereunder. Designation in the specified geographic areas is for a period of no more than 3 years. Persons wishing to apply for designation should contact the Compliance Division at the address listed above for forms and information, or obtain applications at the GIPSA Web site, http://www.usda.gov/gipsa/oversight/parovreg.htm.

Applications, comments, and other available information will be considered in determining which applicant will be designated.

Authority: Pub. L. 94-582, 90 Stat. 2867, as amended (7 U.S.C. 71 et seq.).

Dated: December 2, 2004.
Donna Reifschneider,
Administrator, Grain Inspection, Packers and Stockyards Administration.

[FR Doc. 04-26857 Filed 12-7-04; 8:45 am]

BILLING CODE 3410-EN-P